OFFICE OF MANAGEMENT AND BUDGET

Office of Federal Procurement Policy

DEPARTMENT OF DEFENSE

GENERAL SERVICES ADMINISTRATION

NATIONAL AERONAUTICS AND SPACE ADMINISTRATION

[OMB Control No. 9000-0027; Docket No. 2025-0053; Sequence No. 1]

Submission for OMB Review; Value Engineering Requirements

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding value engineering requirements.

DATES: Submit comments on or before June 26, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0027, Value Engineering Requirements.

B. Need and Uses

This clearance covers the information that contractors must submit to comply with the following Federal Acquisition Regulation (FAR) requirements:

• FAR 52.248-1, Value Engineering; 52.248-2, Value Engineering-Architect-Engineer; and 52.248-3, Value Engineering-Construction. These clauses require contractors submitting Value Engineering Change Proposals (VECP's) to the Government to provide such details as: a description of the differences between the existing contract requirement and the proposed requirement, and the comparative advantages and disadvantages of each; a list and analysis of contract requirements that must be changed if the VECP is accepted; a detailed cost estimate showing anticipated reductions associated with the VECP; a statement of the time a modification accepting the VECP must be issued to achieve maximum cost reduction, and the effect on contract completion time; and identification of any previous submissions of the VECP; the agencies and contract numbers involved and previous Government actions, if known.

The Government will use the collected information to evaluate the VECP and, if accepted, to arrange for an equitable sharing plan.

C. Annual Burden

Respondents: 90.

Total Annual Responses: 180.

Total Burden Hours: 2,700.

D. Public Comment

A 60-day notice was published in the Federal Register at 90 FR 11975, on March 13, 2025. A comment was received; however, it did not change the estimate of the burden.

Comment: This collection should be modified to remove the automated collection techniques that are not currently approved within the contract properly. The incentive language should be removed from the existing agreement and contract regulations need to be followed by all parties involved in the agreement.

Response: The respondents' input is appreciated. Any changes to the collection will require rulemaking. The clauses at FAR 52.248-1, 52.248-2, and 52.248-3 require contractors submitting Value Engineering Change Proposals (VECP's) to provide enough details for the Government to evaluate the VECP and, if accepted, arrange for an equitable sharing plan.

Obtaining Copies: Requesters may obtain a copy of the information collection documents from the GSA Regulatory Secretariat Division by calling 202-501-4755 or emailing GSARegSec@gsa.gov. Please cite OMB Control No. 9000-0027, Value Engineering Requirements.

Janet Fry,
Director, Federal Acquisition Policy Division, Office of Governmentwide Acquisition Policy, Office of Acquisition Policy, Office of Governmentwide Policy.

[FR Doc. 2025-09466 Filed 5-23-25; 8:45 am]

BILLING CODE 6820-EP-P